INTERNATIONAL TRADE COMMISSION

[Investigation No. 337-TA-1422 & Investigation No. 337-TA-1425]

Certain Topcon Solar Cells, Modules, Panels, Components Thereof, and Products Containing Same; Notice of a Commission Determination Not To Review an Initial Determination Granting Complainants' Motion To Amend Complaint and Notice of Investigation To Reflect Corporate Name Change

AGENCY: U.S. International Trade Commission.

ACTION: Notice.

SUMMARY: Notice is hereby given that the U.S. International Trade Commission (“Commission”) has determined not to review an initial determination (“ID”) granting Complainants' motion to amend the complaint and notice of investigation to reflect a corporate name change by Trina Solar US Manufacturing Module 1, LLC to T1 G1 Dallas Solar Module (Trina) LLC.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted Investigation No. 337-TA-1422 (“the 1422 investigation”) on November 5, 2024, and instituted Investigation No. 337-TA-1425 (“the 1425 investigation”) on December 9, 2024, based on complaints filed by Trina Solar (U.S.), Inc., Trina Solar US Manufacturing Module 1, LLC, and Trina Solar Co., Ltd. (collectively, “Trina” or “Complainants”). 89 FR 87889 (Nov. 5, 2024); 89 FR 97653 (Dec. 9, 2024). The complaints, as supplemented, collectively allege violations of section 337 of the Tariff Act of 1930, as amended, 19 U.S.C. 1337, in the importation into the United States, the sale for importation, or the sale within the United States after importation of certain TOPCon solar cells, modules, panels, components thereof, and products containing the same by reason of infringement of claims 1-11 of the U.S. Patent No. 9,722,104 and claims 1-17 of U.S. Patent No. 10,230,009. The complaints further allege that a domestic industry exists. The Commission's notices of investigation collectively named as respondents Runergy USA Inc., of Pleasanton, CA; Runergy Alabama Inc., of Huntsville, AL; Jiangsu Runergy New Energy Technology, Co., Ltd., of Yangcheng City, China; Adani Solar USA Inc., of Irving, TX; Adani Green Energy Ltd., of Ahmedabad, India; CSI Solar Co., Ltd., of Suzhou, China; Canadian Solar Inc., of Guelph, Canada; Canadian Solar (USA) Inc., of Walnut Creek, CA; Canadian Solar Manufacturing (Thailand) Co., Ltd., of Bo Win, Thailand; Canadian Solar US Module Manufacturing Corporation, of Mesquite, TX; Recurrent Energy Development Holdings, LLC, of Austin, TX. The Office of Unfair Import Investigations is participating in the investigations. Id.

On January 21, 2025, the Commission consolidated the 1422 investigation and the 1425 investigation. Inv. No. 337-TA-1422, Order No. 5 (Dec. 20, 2024) and Inv. No. 337-TA-1425, Order No. 4 (Dec. 20, 2024), unreviewed by Comm'n Notice (Jan. 21, 2025).

On January 31, 2025, the Commission determined not to review Order No. 8 granting Trina's unopposed motion to terminate the investigation as to Adani Green Energy Ltd. and to add Mundra Solar PV Ltd. as a respondent. See Order No. 8 (January 14, 2025), unreviewed by Comm'n Notice (Jan. 31, 2025).

On February 12, 2025, the Commission determined not to review Order No. 9 amending the target date to May 20, 2026. See Order No. 9 (Jan. 15, 2025), unreviewed by Comm'n Notice (Feb. 12, 2025).

On February 13, 2025, the Commission determined not to review Order No. 7 granting Trina's unopposed motion to withdraw the complaint and terminate the investigation as to respondent Recurrent Energy Development Holdings LLC. See Order No. 8 (Jan. 14, 2025), unreviewed by Comm'n Notice (February 13, 2025).

On May 12, 2025, Complainants filed an unopposed motion seeking leave to amend the Complaint and the Notice of Institution of Investigation to reflect a corporate name change by Trina Solar US Manufacturing Module 1, LLC to T1 G1 Dallas Solar Module (Trina) LLC, a name change that was effective as of April 21, 2025.

On May 23, 2025, the presiding administrative law judge issued the subject ID granting Complainants' motion. Order No. 15. The ID found that Complainants demonstrated good cause for the amendment consistent with Commission Rule 210.14(b).

No petitions for review of the ID were filed.

The Commission has determined not to review the subject ID. The complaint and notice of investigation are amended to replace complainant Trina Solar US Manufacturing Module 1, LLC with the correct party name of T1 G1 Dallas Solar Module (Trina) LLC.

The Commission vote for these determinations took place on June 17, 2025.

The authority for the Commission's determination is contained in section 337 of the Tariff Act of 1930, as amended (19 U.S.C. 1337), and in Part 210 of the Commission's Rules of Practice and Procedure (19 CFR part 210).

By order of the Commission.
Issued: June 17, 2025.
Sharon Bellamy,
Supervisory Hearings and Information Officer.

[FR Doc. 2025-11434 Filed 6-20-25; 8:45 am]

BILLING CODE 7020-02-P